GENERAL SERVICES ADMINISTRATION

[Notice-CECANF-2014-02; Docket No. 2014-0005; Sequence No. 2];

Commission to Eliminate Child Abuse and Neglect Fatalities; Announcement of Meeting; Corrections

AGENCY: Commission to Eliminate Child Abuse and Neglect Fatalities, GSA.

ACTION: Meeting Notice; Corrections.

SUMMARY: The Commission to Eliminate Child Abuse and Neglect Fatalities (CECANF), a Federal Advisory Committee established by the Protect Our Kids Act of 2012, Public Law 112-275, is issuing corrections to amend the meeting time and registration information that was published in the Federal Register on May 14, 2014.

DATES: Effective: May 27, 2014.

FOR FURTHER INFORMATION CONTACT: Contact Ms. Patricia Brincefield, Communications Director, at 202-818-9596, 1800 F St. NW., Room 7003D, Washington, DC 20006.

SUPPLEMENTARY INFORMATION:

Corrections

In the notice FR Doc. 2014-11142 published in the Federal Register at 79 FR 27613, May 14, 2014, make the following corrections:

1. On page 27613, in the second column, under DATES, remove “June 2, 2014, from 8:30 a.m. to 5:30 p.m.” and add “June 2, 2014, from 1:00 p.m. to 5:30 p.m.” in its place.

2. On page 27613, in the second column, under ADDRESSES, remove “To register for the audio link, please go to” and add “To attend in person or participate by teleconference, please register at” in its place.

Dated: May 19, 2014.
Karen White,
Executive Assistant.

[FR Doc. 2014-12156 Filed 5-23-14; 8:45 am]

BILLING CODE 6820-34-P